DEPARTMENT OF STATE

22 CFR Chapter I

28 CFR Chapter XI

[Public Notice: 7351]

Department of State Retrospective Review under E.O. 13563

AGENCY: Department of State.

ACTION: Request for information and comment.

SUMMARY: As part of its implementation of Executive Order 13563, “Improving Regulation and Regulatory Review,” issued by the President on January 18, 2011, the Department of State (DOS) is seeking comments and information from interested parties to assist DOS in reviewing its existing regulations to determine if any of them should be modified or repealed. The purpose of this review is to make DOS's regulatory program more effective and less burdensome in achieving its regulatory objectives.

DATES: Written comments and information are requested on or before March 31, 2011.

ADDRESSES: Interested persons are encouraged to submit comments, identified by “Regulatory Review,” by any of the following methods:

Docket: For access to the docket to read background documents or comments received, go to the Federal e-Rulemaking Portal at http://www.regulations.gov and search on docket number DOS-2011-0047.

Mail: U.S. Department of State, A/GIS/DIR, SA-22, Washington, DC 20522-2201.

E-Mail: RegulatoryReview@State.gov. Include “Regulatory Review” in the subject line of the message.

FOR FURTHER INFORMATION CONTACT: Thelma Furlong, 202-216-9600.

SUPPLEMENTARY INFORMATION: On January 18, 2011, the President issued Executive Order 13563, “Improving Regulation and Regulatory Review,” to ensure that Federal regulations seek more affordable, less intrusive means to achieve policy goals, and that agencies give careful consideration to the benefits and costs of those regulations. The Executive Order can be found at: http://www.gpo.gov/fdsys/pkg/FR-2011-01-21/pdf/2011-1385.pdf.

To implement the Executive Order, the Department is taking two immediate steps to launch its retrospective review of existing regulatory and reporting requirements. First, the Department issues this Request for Information (RFI) seeking public comment on how best to review its existing regulations and to identify whether any of its existing regulations should be modified or repealed. Second, the Department has created a link on the DOS Internet site to an e-mail in-box at RegulatoryReview@State.gov, which interested parties can use to identify to DOS—on a continuing basis—regulations that may be in need of review in the future. These steps will help the Department ensure that its regulations remain necessary, properly tailored, and have up-to-date requirements that effectively achieve regulatory objectives without imposing unwarranted costs.

Request for Information

Pursuant to the Executive Order, the Department is developing a preliminary plan for the periodic review of its existing regulations and reporting obligations. The Department's goal is to create a systematic method for identifying those significant rules that are obsolete or simply no longer make sense. While this review will focus on the elimination of rules that are no longer warranted, DOS will also consider strengthening, complementing, or modernizing rules where necessary or appropriate—including, as relevant, undertaking new rulemakings.

Consistent with the Department's commitment to public participation in the rulemaking process, the Department is beginning this process by soliciting views from the public on how best to conduct its analysis of existing DOS rules and how best to identify those rules that might be modified or repealed. It is also seeking views from the public on specific rules or Department-imposed obligations that should be altered or eliminated. In short, engaging the public in an open, transparent process is a crucial first step in DOS's review of its existing regulations.

List of Questions for Commenters

The following list of questions is intended solely to assist in the formulation of comments and is not intended to be exhaustive or restrict the issues that the public might want to address. The Department requests that anyone submitting comments specify the regulation or reporting requirement at issue, providing legal citation when known, and the reasons why the regulation or reporting requirement should be modified or repealed.

(1) How can the Department best promote meaningful periodic reviews of its existing rules and how can it best identify those rules that might be modified or repealed?

(2) What factors should the agency consider in selecting and prioritizing rules and reporting requirements for review?

(3) Are there regulations that simply make no sense or have become unnecessary, ineffective, or ill advised and, if so, what are they?

(4) Are there rules that are still necessary, but have not operated as well as expected such that a stronger or different approach is justified?

(5) Does the Department currently collect information that it does not need or use effectively to achieve regulatory objectives?

(6) Are there regulations, reporting requirements, or regulatory processes that are unnecessarily complicated or could be streamlined to achieve regulatory objectives in more efficient ways?

(7) Can new technologies be leveraged to modify or do away with existing regulatory or reporting requirements?

(8) How can the Department best obtain and consider accurate, objective information and data about the costs, burdens, and benefits of existing regulations? Are there existing sources of data the Department can use to evaluate the post-promulgation effects of regulations over time?

(9) Are there regulations that are working well that can be expanded or used as a model to fill gaps in other DOS regulatory programs?

(10) Are there other concerns that DOS should consider consistent with Executive Order 13563?

The Department notes that this RFI is issued solely for information and program-planning purposes. While responses to this RFI do not bind DOS to any further actions related to the response, all submissions will be made publicly available on http://www.regulations.gov.

Dated: March 3, 2011.
Patrick F. Kennedy,
Under Secretary, Office of the Undersecretary for Management, Department of State.

[FR Doc. 2011-5813 Filed 3-14-11; 8:45 am]

BILLING CODE 4710-24-P